NATIONAL SCIENCE FOUNDATION

Notice of Permit Application Received Under the Antarctic Conservation Act of 1978

AGENCY: National Science Foundation.

ACTION: Notice of Permit Applications received under the Antarctic Conservation Act.

SUMMARY: Notice is hereby given that the National Science Foundation (NSF) has received a waste management permit application for operation of remote field camps during dual helicopter flights from Punta Arenas, Chile to South Pole and return. The application is submitted to NSF pursuant to regulations issued under the Antarctic Conservation Act of 1978.

DATES: Interested parties are invited to submit written data, comments, or views with respect to this permit application by October 20, 2006. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale, Environmental Officer, at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for the operation of an expedition to Antarctica. Polar First plans for four pilots to fly two Bell 407 Helicopters from Punta Arenas, Chile to the South Pole and return to Punta Arenas. All drums of fuel at Vernadsky, Bravo, Fowler, Patriot Hills and Thiel will be cached and removed by Antarctic Logistics and Expeditions (ALE).

Application for the permit is made by: Jennifer Murray, Director, Solo World Challenge Ltd. “Polar First”, Flat 2, One Onslow Gardens, London, SW7 3LX England.

Location: Antarctic Peninsula and South Geographic Pole.

Dates: January 1, 2007 to February 6, 2007.

Nadene G. Kennedy,
Permit Officer.

[FR Doc. 06-7758 Filed 9-19-06; 8:45 am]

BILLING CODE 7555-01-M